DEPARTMENT OF COMMERCE

Foreign-Trade Zones Board

[B-26-2017]

Foreign-Trade Zone (FTZ) 80—San Antonio, Texas, Notification of Proposed Production Activity, DPT Laboratories, Ltd., (Pharmaceutical Products), San Antonio, Texas

DPT Laboratories, Ltd. (DPT) submitted a notification of proposed production activity to the FTZ Board for its facilities in San Antonio, Texas. The notification conforming to the requirements of the regulations of the FTZ Board (15 CFR 400.22) was received on April 17, 2017.

The request indicates that a separate application for subzone designation for two DPT facilities under FTZ 80 will be submitted. Any such application would be processed under Section 400.38 of the Board's regulations. The facilities will be used to produce certain pharmaceutical products. Pursuant to 15 CFR 400.14(b), FTZ activity would be limited to the specific foreign-status material/component and specific finished products described in the submitted notification (as described below) and subsequently authorized by the FTZ Board.

Production under FTZ procedures could exempt DPT from customs duty payments on the foreign-status material/componens used in export production. On its domestic sales, DPT would be able to choose the duty rate during customs entry procedures that apply to crisaborole (Eucrisa™) (duty free) in finished product and bulk form for the foreign-status input noted below. Customs duties also could possibly be deferred or reduced on foreign-status production equipment.

The material/component sourced from abroad is crisaborole—active pharmaceutical ingredient (duty rate 6.5%).

Public comment is invited from interested parties. Submissions shall be addressed to the Board's Executive Secretary at the address below. The closing period for their receipt is July 17, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: June 2, 2017.
Andrew McGilvray,
Executive Secretary.

[FR Doc. 2017-11833 Filed 6-6-17; 8:45 am]

BILLING CODE 3510-DS-P